DEPARTMENT OF THE TREASURY

United States Mint

Privacy Act of 1974, as Amended; System of Records

AGENCY: United States Mint, Department of the Treasury.

ACTION: Notice of Proposed New Privacy Act of 1974 system of records.

SUMMARY: In accordance with the requirements of the Privacy Act of 1974, as amended, 5 U.S.C. 552a, the United States Mint proposes to establish a new Privacy Act system of records entitled, “Treasury/United States Mint .014—Denver Public Tour and Outreach Reservation System.”

DATES: Comments must be received no later than November 27, 2015. The proposed new system of records will be effective December 7, 2015 unless comments are received that would result in a contrary determination.

ADDRESSES: Comments should be sent to Kathleen Saunders-Mitchell, Disclosure Officer, United States Mint, 801 9th Street NW., Washington, DC 20220. Comments can be faxed to (202) 756-6153 or emailed to kmitchell@usmint.treas.gov. Comments submitted will be made available for inspection upon written request or by appointment by telephoning (202) 354-6788. The United States Mint will make comments available for public inspection and copying at the above listed location, on official business days. All comments received, including attachments and other supporting materials, are subject to public disclosure. You should submit only information that you wish to make available publicly.

FOR FURTHER INFORMATION CONTACT: For general questions and privacy issues, please contact Kathleen Saunders-Mitchell, Disclosure Officer, United States Mint, 801 9th Street NW., Washington, DC 20220. Telephone number: (202) 354-6788. Email: kmitchell@usmint.treas.gov.

SUPPLEMENTARY INFORMATION:

In accordance with the Privacy Act of 1974, as amended, 5 U.S.C. 552a, the Department of the Treasury and the United States Mint are proposing to establish a new system of records entitled, “Treasury/United States Mint .014—Denver Public Tour and Outreach Reservation System.”

The United States Mint is establishing the United States Mint Denver Public Tour and Outreach Reservation System of Records to allow individual members of the public and federal employees to contact the United States Mint to request guided public tours of the United States Mint at Denver facility for themselves or on behalf of a group (Tour(s)), and to request a visit and presentation by United States Mint staff on the Bureau's history, mission, and coin-making process on behalf of a group in the extended Denver metropolitan area (Outreach Program(s)).

System features are intended to enhance the process of registration and communication between the United States Mint and the individual requesting a Tour or Outreach Program (Requester), and to allow the United States Mint to schedule and manage the arrangements including any necessary cancellations.

All Requesters must provide scheduling and contact information. For Outreach Programs and larger Tours, Requesters must also provide the name of the participant group or school (if any), group size, age range, and grade. Outreach Program Requesters are additionally required to provide site location and information on how they learned of the program, and may request topics to be covered by the presenter. All Requesters may provide information on special requirements (such as a participant needing a reasonable accommodation) for themselves or their groups, and may (but are not required to) name or otherwise identify any individual participants having special requirements.

Authority for this system derives from 31 U.S.C. 5131 and 31 U.S.C. 5136. In accordance with 5 U.S.C. 552a(r), a report of this proposed new system of records has been provided to the Office of Management and Budget and to Congress.

Dated: September 7, 2015.
Helen Goff Foster,
Deputy Assistant Secretary for Privacy, Transparency, and Records.

Treasury/United States Mint .014

System name:

Treasury/United States Mint .014.

System location:

United States Mint, Denver facility, 320 West Colfax Avenue, Denver, Colorado 80204.

Categories of individuals covered by the system:

• Tour Requesters: Individual members of the public or federal employees who contact the United States Mint and request public tours of the United States Mint at Denver facility.

• Outreach Program Requesters: Individual members of the public or federal employees who contact the United States Mint and request Outreach Programs presentations by United States Mint staff on the Bureau's history, mission and coin-making process on behalf of a group meeting applicable size and location criteria in the extended Denver metropolitan area.

• Individual members of the public or federal employees other than Requesters, whose name and other personal information a Requester voluntarily provides to identify a participant in the Tour or Outreach Program the Requester arranges.

Categories of records in the system:

• Name of Requester;

• Information about a Requester's special requirements, including information to allow the United States Mint to provide a reasonable accommodation for Requester's disability;

• Names of other Tour or Outreach Program participants volunteered by a Requester;

• Information about participants' special requirements, including information to allow the United States Mint to provide a reasonable accommodation for a participant with a disability;

• Requester's email address, telephone, fax number, and postal address;

• Outreach Program site address, if applicable;

• Participant group name, and school name, if applicable;

• Source of Outreach Requester's awareness of the Outreach Program;

• Outreach Program topics requested.

Authority for maintenance of the system:

31 U.S.C. 5131; 31 U.S.C. 5136.

Purpose(s):

The purpose of this system is to allow the United States Mint the ability to work with Requesters to schedule, confirm, plan and manage arrangements for Tours and Outreach Programs, understand the needs of participants, and allow the Bureau to manage its Denver facility visitor volume, interests, and safety. It also provides the United States Mint with contact information to notify Requesters of schedule changes, and to send an optional customer satisfaction survey invitation containing a link to the survey, allowing the participating public to provide feedback that enables the Bureau to continually improve its Tour and Outreach Program services. Surveys do not solicit personal information and results are not stored in the system.

The United States Mint at Denver offers guided public Tours of its facility to members of the public, including federal employees. For groups (such as schools, clubs, civic groups, and other organizations whose members may be unable to travel to the facility), the United States Mint provides the opportunity to request an Outreach Program visit and presentation, provided these groups meet certain size and location criteria. Both Tours and Outreach Programs require advance reservations. The system will provide an enhanced process by which individuals can request, schedule, and manage Tour and Outreach Program arrangements, and the Bureau can contact Requesters to confirm, reschedule, or cancel Tours or Outreach Programs. The system will also allow Requesters to note any special requirements (including requests for reasonable accommodations for persons with disabilities).

Routine uses of records maintained in the system, including categories of users and the purpose of such uses:

In addition to those disclosures generally permitted under 5 U.S.C. 552a(b) of the Privacy Act, all or a portion of the records or information contained in this system may be disclosed outside Treasury as a routine use pursuant to 5 U.S.C. 552a(b)(3) as follows:

1. To medical personnel to meet a bona fide medical emergency;

2. To appropriate federal, state, local or foreign agencies responsible for investigating or prosecuting the violations of, or for enforcing or implementing, a statute, rule, regulation, order or license, when the disclosing agency becomes aware of a potential violation of civil or criminal law or regulation and that misconduct is related to the purposes for which the records are maintained;

3. To a court, magistrate, or administrative tribunal in the course of presenting evidence, including disclosures to opposing counsel or witnesses in the course of civil discovery, litigation, or settlement negotiations, in response to a court-ordered subpoena, or in connection with criminal law proceedings;

4. To a congressional office in response to an inquiry made at the request of the individual to whom the record pertains;

5. To the news media in accordance with guidelines contained in 28 CFR 50.02, which pertains to an agency's functions relating to civil and criminal proceedings;

6. To representatives of the National Archives and Records Administration (NARA) who are conducting records management inspections under authority of 44 U.S.C. 2904 and 2906;

7. To contractors, grantees, experts, consultants, interns, volunteers, and others (including agents of the foregoing) performing or working on a contract, service, grant, cooperative agreement, or other assignment for the federal government, when necessary to accomplish such function;

8. To appropriate agencies, entities, and persons when (a) it is suspected or confirmed that the security or confidentiality of information in the system of records has been compromised; (b) the United States Mint has determined that, as a result of the suspected or confirmed compromise, there is a risk of harm to economic or property interests, identity theft or fraud, or harm to the security or integrity of this system or other systems or programs (whether maintained by the United States Mint or another agency or entity) that rely on the compromised information; and (c) the disclosure made to such agencies, entities, and persons is reasonably necessary to assist in connection with the United States Mint's efforts to respond to the suspected or confirmed compromise and prevent, minimize, or remedy such harm; and

9. To the news media and the public, with the approval of the Treasury Department's Senior Agency Official for Privacy, or her designee, in consultation with counsel, when there exists a legitimate public interest in the disclosure of the information or when disclosure is necessary to preserve confidence in the integrity of Treasury or is necessary to demonstrate the accountability of Treasury's officers, employees, or individuals covered by the system, except to the extent it is determined that release of the specific information in the context of a particular case would constitute an unwarranted invasion of personal privacy.

Policies and practices for storing, retrieving, accessing, retaining, and disposing of records in the system:

Storage:

Paper documents and electronic records.

Retrievability:

Records are retrieved by:

• Name of Requester;

• Name of Participant Group (if any);

• Event category (Tour or Outreach Program);

• Requested event dates;

• Final event date;

• Name of participants provided by Requester (if any);

• Request for reasonable accommodation or other special requirement for the event (if any);

• Name of individual participant indicated by Requester as requesting reasonable accommodation for disability, or having other special requirement for event (if any);

• Confirmation Number;

• Size of Tour;

• Requester telephone number, email address, postal address, and fax number (if any);

• Address of Outreach Program site (if any).

Safeguards:

Paper records are stored in secured filing cabinets with access only by authorized personnel. Electronic records are stored in secured systems subject to access controls in accordance with Department of the Treasury and United States Mint policies and procedures. Access to electronic records is restricted to authorized personnel, and is subject to multiple controls including an access approval process, unique user identifier, user authentication and account management, and password management.

Retention and disposal:

Data is retained and preserved or destroyed in accordance with National Archives and Records Administration (NARA) schedules for the categories of data in the system and for system security backup data.

System manager and address:

Jennifer DeBroekert, Supervisory Public Affairs Specialist, Office of Corporate Communications, United States Mint at Denver, 320 West Colfax Avenue, Denver, Colorado 80204-269.

Notification procedure:

Individuals seeking to determine whether this system of records contains information about themselves should address written inquiries to Kathleen Saunders-Mitchell, Disclosure Officer, United States Mint, 801 9th Street NW., Washington, DC 20220.

Record access procedures:

Refer to “Notification Procedure” above for address to which requests may be sent for gaining access to records.

Contesting Record Procedures:

Refer to “Notification Procedure” above for address to which requests may be sent for gaining access to records.

Record source categories:

Information in the system, including individually-identifying information submitted to the United States Mint, is obtained from Requesters, or from persons responding to United States Mint communications in connection with scheduling made to email addresses or numbers provided by Requesters.

Exemptions claimed for the system:

None.

[FR Doc. 2015-27249 Filed 10-26-15; 8:45 am]

BILLING CODE 4810-37-P